DEPARTMENT OF HEALTH AND HUMAN SERVICES

Centers for Disease Control and Prevention

[60Day-04-JN]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, or to send comments contact Seleda Perryman, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Internet Survey on Household Drinking Water—New—National Center for Environmental Health (NCEH), Centers for Disease Control and Prevention (CDC).

Drinking water in the United States comes from many different sources. A recent survey of the public's perceptions of water quality reports that 86% of adults have some concern about drinking water quality and more than half worry about possible contaminants in water (Water Quality Association, 2001 National Consumer Water Quality Survey). Public concern about drinking water quality has given rise to the increased use of bottled water, vended water, and water-treatment devices. In the past six years, use of home water-treatment systems rose 60% (Ibid.). Bottled water consumption has risen from 10.5 gallons per capita in 1993 to 22.6 gallons per capita in 2003, making bottled water the second largest commercial beverage category, accounting for $8.3 billion in sales for 2003 (Beverage Marketing Corporation, News Release, April 8, 2004). Many consumers believe that bottled water is “healthier” than tap water. However, the Food and Drug Administration, the agency responsible for regulating the quality of bottled water, reports that the relative safety of bottled vs. tap water remains under debate (FDA Consumer Magazine, July-August 2002).

The proposed internet survey is designed to obtain information about why the public is using water-treatment devices, bottled water, and vended water as alternatives to tap water. The survey asks both opinion and knowledge questions about the safety of each type of water, and requests information on the frequency and costs of using bottled water, vended water, and water-treatment devices.

The survey also contains knowledge and opinion questions about general water topics, including perceptions of the chemical and microbial quality of water and any health incidents participants have experienced associated with drinking various types of water. The survey will be posted on the CDC Website and recruitment will be sought through an announcement on the Web site inviting visitors to complete the survey. We anticipate that survey participants will come from all regions of the United States. No personal identifiers are requested as part of the survey, and respondents will be neither compensated nor charged for responding.

Annualized Burden Table
Respondents | No. of respondents | No. of responses per respondent | Average burden per response (in hrs.) | Total burden (in hrs.)
CDC Web Site Visitors | 3,000 | 1 | 20/60 | 1,000
Total | 3,000 |  |  | 1,000

Dated: July 27, 2004,
Alvin Hall,
Director, Management Analysis and Services Office, Centers for Disease Control and Prevention.

[FR Doc. 04-17618 Filed 8-2-04; 8:45 am]

BILLING CODE 4163-18-P